DEPARTMENT OF DEFENSE

Department of the Army

Availability for Non-Exclusive, Exclusive, or Partially Exclusive Licensing of U.S. Provisional Patent Application Concerning Hybrid Inhalation System for Precious Materials

AGENCY: Department of the Army, DoD.

ACTION: Notice.

SUMMARY: In accordance with 37 CFR 404.6 and 404.7, announcement is made of the availability for licensing of U.S. Provisional Patent No. 60/396,698 entitled “Hybrid Inhalation System for Precious Materials,” filed July 17, 2002. The United States Government, as represented by the Secretary of the Army, has rights in this invention.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention is a method and associated system for generating a cycle of dynamic and static test atmospheres designed to be sued for aerosol characterization or exposing animals to all materials potentially aerosolized but especially limited production materials such as new chemical entities or biologics.

This method will greatly reduce the cost and time required for evaluation of precious materials under testing. The method includes complete computer automated control of aerosol generation, characterization, and exposure duration and can be utilized with a variety of commercially-available aerosol generators, sampling devices, and material types.

Luz D. Ortiz,
Army Federal Register Liaison Officer.

[FR Doc. 02-30569 Filed 12-2-02; 8:45 am]

BILLING CODE 3710-08-M